DEPARTMENT OF THE INTERIOR

Bureau of Land Management

[UT-030-13-1610-PH-241A]

Call for Nominations to the Grand Staircase-Escalante National Monument Advisory Committee, UT

AGENCY: Bureau of Land Management, Interior.

ACTION: Notice.

SUMMARY: The purpose of this notice is to request public nominations for two members of the Grand Staircase-Escalante National Monument Advisory Committee (GSENM-MAC). The GSENM-MAC provides advice and recommendations to the GSENM on science issues and the achievement of the GSENM Monument Management Plan objectives. GSENM will accept public nominations for 30 days from the publication date of this notice.

DATES: A completed nomination form and accompanying nomination/recommendation letters must be received at the address listed below no later than October 9, 2013.

ADDRESSES: GSENM Headquarters Office, 669 South Highway 89A, Kanab, UT 84741.

FOR FURTHER INFORMATION CONTACT: Larry Crutchfield, Public Affairs Officer, see ADDRESSES above, telephone 435-644-1209; or email lcrutchf@blm.gov. Persons who use a telecommunications device for the deaf (TDD) may call the Federal Information Relay Service (FIRS) at 1-800-877-8339 to contact the above individual during normal business hours. The FIRS is available 24 hours a day, 7 days a week. You will receive a reply during normal business hours.

SUPPLEMENTARY INFORMATION: The Secretary of the Interior established the GSENM-MAC pursuant to Section 309 of the Federal Land Policy and Management Act of 1976 (43 U.S.C. 1739) and in conformity with the Federal Advisory Committee Act of 1972 (5 U.S.C. Appendix 2). The 15 appointed members of the GSENM-MAC perform several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and (4) Consult on issues such as protocols for specific projects.

The Secretary of the Interior appoints persons to the GSENM-MAC who are representatives of various stakeholder interests pertaining to land use planning and management of the lands under BLM management in the GSENM.

Each GSENM-MAC member will be a person who, as a result of training and experience, has knowledge or special expertise which qualifies him or her to provide advice from among the categories of interest listed below. As appropriate, certain committee members may be appointed as special government employees who serve on the committee without compensation, and are subject to financial disclosure requirements in the Ethics in Government Act and 5 CFR part 2634.

Individuals may nominate themselves or others to serve on the GSENM-MAC. Nomination forms may be obtained from the GSENM Headquarters Office, (address listed above).

The following must accompany all nomination packages:

—A letter of nomination;

—A completed nomination form;

—Letters of reference from the represented interests or organizations associated with the interest represented by the candidate; and,

—Any other information that speaks to the candidate's qualifications.

One member, a livestock grazing permittee operating within the GSENM, will be appointed to the committee to represent livestock operators on the GSENM; and one member will be appointed as a special government employee with expertise in systems ecology. The specific category should be identified in the letter of nomination and in the nomination form.

Simultaneous with this notice, the GSENM will issue a press release providing additional information.

Authority: 43 CFR 1784.4-1.

Jenna Whitlock,
Associate State Director.

[FR Doc. 2013-21834 Filed 9-6-13; 8:45 am]

BILLING CODE 4310-DQ-P